DEPARTMENT OF AGRICULTURE

Food and Nutrition Service

Summer Food Service Program; 2024 Reimbursement Rates

AGENCY: Food and Nutrition Service, USDA.

ACTION: Notice.

SUMMARY: This notice informs the public of the annual adjustments to the reimbursement rates for meals served in the Summer Food Service Program. These adjustments address changes in the Consumer Price Index, as required under the Richard B. Russell National School Lunch Act. The 2024 reimbursement rates are presented as a combined set of rates to highlight simplified cost accounting procedures. The 2024 rates are also presented individually, as separate operating and administrative rates of reimbursement, to show the effect of the Consumer Price Index adjustment on each rate. On average, the 2024 rates adjustment represents a 5.3 percent increase in the rates from last year.

DATES: This adjustment is applicable January 1, 2024.

FOR FURTHER INFORMATION CONTACT: Penny Burke, Program Monitoring and Operational Support Division, Child Nutrition Programs, Food and Nutrition Service, United States Department of Agriculture, 1320 Braddock Place, Suite 401, Alexandria, Virginia 22314, (303) 844-0357.

SUPPLEMENTARY INFORMATION: The Summer Food Service Program (SFSP) is listed in the Catalog of Federal Domestic Assistance under No. 10.559 and is subject to the provisions of Executive Order 12372, which requires intergovernmental consultation with State and local officials. (See 2 CFR, 415 and final rule-related notice published at 48 FR 29114, June 24, 1983.)

In accordance with the Paperwork Reduction Act of 1995, 44 U.S.C. 3501-3520, no new recordkeeping or reporting requirements have been included that are subject to approval from the Office of Management and Budget.

This notice is not a rule as defined by the Regulatory Flexibility Act, 5 U.S.C. 601-612, and thus is exempt from the provisions of that Act. Additionally, this notice has been determined to be exempt from formal review by the Office of Management and Budget under Executive Order 12866.

Special Note: While the United States Department of Agriculture (USDA) Food and Nutrition Service (FNS) does not have the authority to adjust reimbursement rates above inflation in the contiguous United States (CONUS), pursuant to section 12 of the Richard B. Russell National School Lunch Act (42 U.S.C. 1760), USDA may make adjustments to reimbursement rates in the outlying areas to reflect differences between the cost of providing meals and supplements in those areas and the costs of providing meals and supplements in all other States. Therefore, FNS is increasing the reimbursement rates for the child nutrition programs in Guam, Hawaii, Puerto Rico, and the Virgin Islands to 30 percent above CONUS rates. This adjustment to the Summer Food Service Program rates will be applied beginning on January 1, 2024, until further notice.

Definitions

The terms used in this notice have the meaning ascribed to them under 7 CFR part 225 of the SFSP regulations.

Background

This notice informs the public of the annual adjustments to the reimbursement rates for meals served in SFSP. In accordance with sections 12(f) and 13, 42 U.S.C. 1760(f) and 1761 of the Richard B. Russell National School Lunch Act (NSLA) and SFSP regulations under 7 CFR part 225, the USDA announces the adjustments in SFSP payments for meals served to participating children during calendar year 2024.

The 2024 reimbursement rates are presented as a combined set of rates to highlight simplified cost accounting procedures. Reimbursement is based solely on a “meals times rates” calculation, without comparison to actual or budgeted costs.

Sponsors receive reimbursement that is determined by the number of reimbursable meals served, multiplied by the combined rates for food service operations and administration. However, the combined rate is based on separate operating and administrative rates of reimbursement, each of which is adjusted differently for inflation.

Calculation of Rates

The combined rates are constructed from individually authorized operating and administrative reimbursements. Simplified procedures provide flexibility, enabling sponsors to manage their reimbursements to pay for any allowable cost, regardless of the cost category. Sponsors remain responsible, however, for ensuring proper administration of the Program, while providing the best possible nutrition benefit to children.

The operating and administrative rates are calculated separately. However, the calculations of adjustments for both cost categories are based on the same set of changes in the Food Away from Home series of the Consumer Price Index for All Urban Consumers, published by the Bureau of Labor Statistics of the United States Department of Labor. They represent a 5.3 percent increase in this series for the 12-month period, from November 2022 through November 2023 (from 342.266 in November 2022 to 360.383 in November 2023).

Table of 2024 Reimbursement Rates

Presentation of the 2024 maximum per meal rates for meals served to children in SFSP combines the results from the calculations of operational and administrative payments, which are further explained in this notice. The total amount of payments to State agencies for disbursement to SFSP sponsors will be based upon these adjusted combined rates and the number of meals of each type served. These adjusted rates will be in effect from January 1, 2024, through December 31, 2024.

These changes are reflected below.

All States except Alaska and Hawaii—Rural or Self-prep Sites—Breakfast—2 dollars and 97.75 cents (15.25 cent increase from the 2023 reimbursement rate), Lunch or Supper—5 dollars and 21.25 cents (26.25 cent increase), Snack—1 dollar and 23.50 cents (6.75 cent increase); All Other Types of Sites—Breakfast—2 dollars and 92.25 cents (15 cent increase), Lunch or Supper—5 dollars and 13 cents (26 cent increase), Snack—1 dollar and 20.50 cents (6.50 cent increase).

Alaska—Rural or Self-prep Sites—Breakfast—4 dollars and 82.50 cents (24.25 cent increase), Lunch or Supper—8 dollars and 45 cents (42 cent increase), Snack—1 dollar and 99.75 cents (10 cent increase); All Other Types of Sites—Breakfast—4 dollars and 73.50 cents (23.75 cent increase), Lunch or Supper—8 dollars and 31.25 cents (41.25 cent increase), Snack—1 dollar and 95.25 cents (10 cent increase).

Guam, Hawaii, Puerto Rico, and Virgin Islands ¹—Rural or Self-prep Sites—Breakfast—3 dollars and 87 cents (56.25 cent increase), Lunch or Supper—6 dollars and 78.25 cents (98.50 cent increase), Snack—1 dollar and 60.50 cents (23.50 cent increase); All Other Types of Sites—Breakfast—3 dollars and 79.50 cents (55 cent increase), Lunch or Supper—6 dollars and 67.25 cent (96.75 cent increase), Snack—1 dollar and 56.75 cents (23 cent increase).

¹ Starting January 1, 2024, Guam, Puerto Rico, and Virgin Islands receive the same reimbursement rates as Hawaii for Summer Food Service Program.

2024 Reimbursement Rates (Combined)
Per meal rates in whole or fractions of U.S. dollars: Site types | All states except Alaska and Hawaii: Rural or self-prep sites | All states except Alaska and Hawaii: All other types of sites | Alaska: Rural or self-prep sites | Alaska: All other types of sites | Guam, Hawaii, Puerto Rico, and Virgin Islands: Rural or self-prep sites | Guam, Hawaii, Puerto Rico, and Virgin Islands: All other types of sites
Breakfast | 2.9775 | 2.9225 | 4.8250 | 4.7350 | 3.8700 | 3.7950
Lunch or Supper | 5.2125 | 5.1300 | 8.4500 | 8.3125 | 6.7825 | 6.6725
Snack | 1.2350 | 1.2050 | 1.9975 | 1.9525 | 1.6050 | 1.5675

Operating Rates

The portion of the SFSP rates for operating costs is based on payment amounts set in section 13(b)(1) of the NSLA, 42 U.S.C. 1761(b)(1). They are rounded down to the nearest whole cent, as required by section 11(a)(3)(B)(iii) of the NSLA, 42 U.S.C. 1759a(a)(3)(B)(iii).

These changes are reflected below.

All States except Alaska and Hawaii—Breakfast—2 dollars and 71 cents (14 cents increase from the 2023 reimbursement rate), Lunch or Supper—4 dollars and 72 cents (24 cents increase), Snack—1 dollar and 10 cents (6 cents increase).

Alaska—Breakfast—4 dollars and 39 cents (22 cents increase), Lunch or Supper—7 dollars and 65 cents (38 cents increase), Snack—1 dollar and 78 cents (9 cents increase).

Guam, Hawaii, Puerto Rico, and Virgin Islands—Breakfast—3 dollars and 52 cents (51 cents increase), Lunch or Supper—6 dollars and 14 cents (89 cents increase), Snack—1 dollar and 43 cents (21 cents increase).

Operating Component of 2024 Reimbursement Rates
Operating rates in U.S. dollars, rounded down to the nearest whole cent | All states except Alaska and Hawaii | Alaska | Guam, Hawaii, Puerto Rico, and Virgin Islands
Breakfast | 2.71 | 4.39 | 3.52
Lunch or Supper | 4.72 | 7.65 | 6.14
Snack | 1.10 | 1.78 | 1.43

Administrative Rates

The administrative cost component of the reimbursement is authorized under section 13(b)(3) of the NSLA, 42 U.S.C. 1761(b)(3). Rates are higher for sponsors of sites located in rural areas and for “self-prep” sponsors that prepare their own meals at the SFSP site or at a central facility instead of purchasing them from vendors. The administrative portion of SFSP rates are adjusted, either up or down, to the nearest quarter-cent.

These changes are reflected below.

All States except Alaska and Hawaii—Rural or Self-prep Sites—Breakfast—26.75 cents (1.25 cent increase from the 2023 reimbursement rate), Lunch or Supper—49.25 cents (2.25 cent increase), Snack—13.50 cents (0.75 cent increase); All Other Types of Sites—Breakfast—21.25 cents (1 cent increase), Lunch or Supper—41 cents (2 cent increase), Snack 10.50 cents (0.50 cent increase).

Alaska—Rural or Self-prep Sites—Breakfast—43.50 cents (2.25 cent increase), Lunch or Supper—80 cents (4 cent increase), Snack—21.75 cents (1 cent increase); All Other Types of Sites—Breakfast—34.50 cents (1.75 cent increase), Lunch or Supper—66.25 cents (3.25 cent increase), Snack—17.25 cents (1 cent increase).

Guam, Hawaii, Puerto Rico, and Virgin Islands—Rural or Self-prep Sites—Breakfast—35 cents (5.25 cent increase), Lunch or Supper—64.25 cents (9.50 cents increase), Snack—17.50 cents (2.50 cent increase); All Other Types of Sites—Breakfast—27.50 cents (4 cent increase), Lunch or Supper—53.25 cents (7.75 cent increase), Snack—13.75 cents (2 cent increase).

Administrative Component of 2024 Reimbursement Rates
Administrative rates in U.S. dollars, adjusted, up or down, to the nearest quarter-cent: Site types | All states except Alaska and Hawaii: Rural or self-prep sites | All states except Alaska and Hawaii: All other types of sites | Alaska: Rural or self-prep sites | Alaska: All other types of sites | Guam, Hawaii, Puerto Rico, and Virgin Islands: Rural or self-prep sites | Guam, Hawaii, Puerto Rico, and Virgin Islands: All other types of sites
Breakfast | 0.2675 | 0.2125 | 0.4350 | 0.3450 | 0.3500 | 0.2750
Lunch or Supper | 0.4925 | 0.4100 | 0.8000 | 0.6625 | 0.6425 | 0.5325
Snack | 0.1350 | 0.1050 | 0.2175 | 0.1725 | 0.1750 | 0.1375

Authority: Sections 9, 13, and 14, Richard B. Russell National School Lunch Act, 42 U.S.C. 1758, 1761, and 1762a, respectively.

Cynthia Long,
Administrator, Food and Nutrition Service.

[FR Doc. 2024-01009 Filed 1-18-24; 8:45 am]

BILLING CODE 3410-30-P